NUCLEAR REGULATORY COMMISSION

Advisory Committee on Nuclear Waste; Notice of Meeting

The Advisory Committee on Nuclear Waste (ACNW) will hold its 173rd meeting on September 18-21, 2006, Room T-2B3, 11545 Rockville Pike, Rockville, Maryland.

The schedule for this meeting is as follows:

Monday, September 18, 2006

10 a.m.-10:05 a.m.: Opening Remarks by the ACNW Chairman (Open)—The ACNW Chairman, Dr. Michael Ryan, will make opening remarks regarding the conduct of today's sessions.

10:05 a.m.-11:30 a.m.: Observations from ACNW Members and Staff on recent Activities (Open)—ACNW members and staff will present a summary of their visit to Crow Butte In Situ Leach Facility in Nebraska and attendance at the U.S. Department of Energy (DOE) Workshop on Low Dose Radiation Research Program; and the International Commission on Radiological Protection (ICRP) Workshop.

12:30 p.m.-5 p.m.: Discussion of Draft ACNW Letter Reports (Open)—The Committee will discuss proposed ACNW letters.

Tuesday, September 19, 2006

ACNW Working Group Meeting on Using Monitoring to Build Model Confidence—Day 1 (Open)

8:30 a.m.-8:45 a.m.: Opening Remarks and Introductions (Open)—The ACNW Chairman will make opening remarks regarding the conduct of today's sessions. ACNW Member Dr. James Clarke will provide an overview of the Working Group Meeting (WGM), including the meeting purpose and scope, and introduce invited subject matter experts.

Session I: Role of Models and Monitoring Programs in Licensing

8:45 a.m.-12 p.m.: Representatives from the industry (Energy Solutions-Duratek-Chem Nuclear, and Radiation Safety Control, Inc.) will discuss the licensee's perspective on the role of models and monitoring in demonstrating compliance with licensing criteria. NRC staff will address NRC's perspectives on the use of ground water monitoring and modeling for regulatory decision making. At the end of this Session, a panel discussion by Committee members and invited subject matter experts will take place.

Session II: Evaluating Radionuclide Releases and Ground Water Contamination (Case Studies)

1 p.m.-5 p.m.: Representatives from national laboratories (Pacific Northwest, Savannah River, and Brookhaven) will discuss lessons learned from remedial, characterization, modeling and monitoring efforts at their sites. A representative from Energy Solutions-Duratek-Chem Nuclear will discuss ground water contaminant migration modeling projections at the Barnwell low-level waste site. At the end of this Session, a panel discussion by Committee members and invited subject matter experts will take place.

Wednesday, September 20, 2006

ACNW Working Group Meeting on Using Monitoring to Build Model Confidence—Day 2 (Open)

8:30 a.m.-8:45 a.m.: Opening Remarks and Introductions—The ACNW Chairman will make opening remarks regarding the conduct of today's sessions. ACNW Member Clarke will provide an overview of the WGM, including the meeting purpose and scope, and introduce invited subject matter experts.

Session III: Field Experience and Insights

8:45 a.m.-12 p.m.: Representatives from U.S. Geological Survey, U.S. Environmental Protection Agency, U.S. Department of Energy, Pacific Northwest National Laboratory, and University of Wisconsin-Madison will discuss their efforts in developing, bench marking and improving models for different waste sites. At the end of this Session, a panel discussion by Committee members and invited subject matter experts will take place.

Session IV: Opportunities for Integrating Modeling and Monitoring

1 p.m.-4:30 p.m.: A representative from NRC's Office of Research will discuss modeling and monitoring integration issues. A representative from Fluor Hanford will discuss integrating modeling and monitoring activities to support long-term interactions and control of contaminants. At the end of this Session, a panel discussion by Committee members and invited subject matter experts will take place. A roundtable wrap up discussion will follow, when all participants will be able to provide their comments. Committee members will discuss their impressions of the WGM and a possible letter report to the Commission.

Thursday, September 21, 2006

8:30 a.m.-8:35 a.m.: Opening Remarks by the ACNW Chairman (Open)—The Chairman will make opening remarks regarding the conduct of today's sessions.

8:35 a.m.-10 a.m.: Disposition of Public Comments on Spent Nuclear Fuel Transportation Package Responses to Tunnel Fire Scenarios (NUREG/CR-6886 for the Baltimore Tunnel and NUREG/CR-6894 for the Caldecott Tunnel) (Open)—NMSS/SFPO representatives will brief the Committee on the public comments received for the two tunnel fire studies and how these comments were addressed in the final versions of the two NUREGs, expected to be released shortly for publication.

10:30 a.m.-4:30 p.m.: Discussion of Potential and Draft ACNW Letter Reports (Open)—The Committee will discuss potential and proposed ACNW letters reports.

4:30 p.m.-5 p.m.: Miscellaneous (Open)—The Committee will discuss matters related to the conduct of ACNW activities and specific issues that were not completed during previous meetings, as time and availability of information permit. Discussions may include future Committee Meetings.

Procedures for the conduct of and participation in ACNW meetings were published in the Federal Register on October 11, 2005 (70 FR 59081). In accordance with these procedures, oral or written statements may be presented by members of the public. Electronic recordings will be permitted only during those portions of the meeting that are open to the public. Persons desiring to make oral statements should notify Mr. Antonio F. Dias (Telephone 301-415-6805), between 8:15 a.m. and 5 p.m. ET, as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office prior to the meeting. In view of the possibility that the schedule for ACNW meetings may be adjusted by the Chairman as necessary to facilitate the conduct of the meeting, persons planning to attend should notify Mr. Dias as to their particular needs.

Further information regarding topics to be discussed, whether the meeting has been canceled or rescheduled, the Chairman's ruling on requests for the opportunity to present oral statements and the time allotted, therefore can be obtained by contacting Mr. Dias.

ACNW meeting agenda, meeting transcripts, and letter reports are available through the NRC Public Document Room (PDR) at pdr@nrc.gov, or by calling the PDR at 1-800-397-4209, or from the Publicly Available Records System component of NRC's document system (ADAMS) which is accessible from the NRC Web site at http://www.nrc.gov/reading-rm/adams.html or http://www.nrc.gov/reading-rm/doc-collections/ (ACRS & ACNW Mtg schedules/agendas).

Video Teleconferencing service is available for observing open sessions of ACNW meetings. Those wishing to use this service for observing ACNW meetings should contact

Mr. Theron Brown, ACNW Audiovisual Technician (301-415-8066), between 7:30 a.m. and 3:45 p.m. ET, at least 10 days before the meeting to ensure the availability of this service. Individuals or organizations requesting this service will be responsible for telephone line charges and for providing the equipment and facilities that they use to establish the video teleconferencing link. The availability of video teleconferencing services is not guaranteed.

Dated: September 1, 2006.
Annette L. Vietti-Cook,
Secretary of the Commission.

[FR Doc. E6-14873 Filed 9-7-06; 8:45 am]

BILLING CODE 7590-01-P